DEPARTMENT OF AGRICULTURE

Animal and Plant Health Inspection Service

[Docket No. APHIS-2024-0040]

Notice of Availability of an Environmental Assessment for Field Release of Aceria salsolae (Acari: Eriophyidae), a Mite for Biological Control of Russian Thistle (Salsola tragus), in the Contiguous United States

AGENCY: Animal and Plant Health Inspection Service, USDA.

ACTION: Notice of availability.

SUMMARY: We are advising the public that the Animal and Plant Health Inspection Service has prepared a revised draft environmental assessment relative to permitting the release of the blister mite, Aceria salsolae De Lillo and Sobhian (Acari: Eriophyidae), for the biological control of Russian thistle (Salsola tragus L.) within the contiguous United States. Based on the revised draft environmental assessment and other relevant data, we have reached a preliminary determination that the release of this control agent within the contiguous United States will not have a significant impact on the quality of the human environment. We are making the revised draft environmental assessment available to the public for review and comment.

DATES: We will consider all comments that we receive on or before July 28, 2025.

ADDRESSES: You may submit comments by either of the following methods:

• Federal eRulemaking Portal: Go to www.regulations.gov. Enter APHIS-2024-0040 in the Search field. Select the Documents tab, then select the Comment button in the list of documents.

• Postal Mail/Commercial Delivery: Send your comment to Docket No. APHIS-2024-0040, Regulatory Analysis and Development, PPD, APHIS, 5601 Sunnyside Ave., #AP760, Beltsville, MD 20705.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Kirsten Dyer, Agriculturist, Pests, Pathogens and Biocontrol Permitting, Pest Exclusion and Import Programs, PPQ, APHIS, 5601 Sunnyside Ave., Beltsville, MD 20705; (352) 554-0556; email: Kirsten.Dyer@usda.gov.

SUPPLEMENTARY INFORMATION: The Animal and Plant Health Inspection Service (APHIS) is proposing to issue permits for the release of the blister mite, Aceria salsolae De Lillo and Sobhian (Acari: Eriophyidae), for the biological control of Russian thistle (Salsola tragus L.) within the contiguous United States. The action is proposed to reduce the severity of infestations of Russian thistle in the central and western United States.

Russian thistle, or tumbleweed, is an alien weedy annual plant that infests about 41.3 million hectares (100 million acres) in the western United States. It is native to the mountainous regions of southwest Asia and was accidentally first introduced in the early 1870s in South Dakota. Since then, it has spread over most of the central and western United States and southern Canada. It grows primarily in fallow or disturbed soil, along roadsides and irrigation canals, and in waste areas in arid and semiarid zones. Russian thistle is listed as a noxious weed in five states and causes millions of dollars in damage by disrupting automobile traffic, clogging irrigation canals, displacing native plant species, providing habitat to insect pests of many fruits and vegetables, and is highly flammable, contributing to a rapid spread of wildfires.

Permitting the release of A. salsolae in the contiguous United States is necessary to help control invasive Russian thistle. A. salsolae is a recently discovered eriophyid mite species, which are usually extremely host specific and therefore generally pose low risk to nontarget plants, making them a likely candidate for classical biological control of weeds. A. salsolae has been reported only from S. tragus and is the only eriophyid mite collected from these plants. A. salsolae causes severe damage to the plant by feeding on epidermal cells in the meristematic tissue, stunting growth and preventing development of branches and flowers needed for reproduction. Host-specificity testing indicates A. salsolae is unlikely to attack non-target species.

Russian thistle is very difficult to control as current chemical, mechanical, and cultural controls are not effective against this widespread weed. However, Russian thistle is an excellent target for biological control as it has no close taxonomic relatives in North America. Classical biological control is a potentially useful management strategy for an invasive pest species whenever effective resident natural enemies are lacking in the new distribution range.

On March 10, 2009, APHIS published a draft EA ¹ in the Federal Register (74 FR 10223-10224, Docket No. APHIS-2008-0143) concluding that after reviewing host specific testing of 39 species and 12 varieties of host plants from 5 families, including 25 native species of North America, A. salsolae was not expected to directly harm any plants outside of the targeted Russian thistle and there was no population increase of A. salsolae on nontarget plant species. The draft EA was made available in the Federal Register for a 30-day comment period. However, because of comments APHIS received on the EA, a finding of no significant impact (FONSI) and, subsequently, permits allowing the environmental release of A. salsolae were never issued. Since that time, additional research has been conducted providing new host specificity information that enabled APHIS to strengthen its support for the release of A. salsolae within the contiguous United States for classical biological control of Russian thistle. Due to this additional research, we revised the prior EA and have decided to make the revised draft EA available to the public for a second round of public comments. APHIS' review and analysis of the potential environmental impacts associated with the proposed release are documented in the revised draft environmental assessment (EA) titled “Field release of Aceria salsolae (Acari: Eriophyidae), a Mite for Biological Control of Russian Thistle (Salsola tragus), in the Contiguous United States” (March 2025). Based on our findings in the revised draft EA, we are proposing to issue permits for the release of the mite, A. salsolae, as a biological control agent to reduce the severity of infestations of Russian thistle. We are making the revised draft EA available to the public for review and comment. We will consider all comments that we receive on or before the date listed under the heading DATES at the beginning of this notice.

¹ To view the notice, supporting documents, and the comments we received, go to http://www.regulations.gov and enter APHIS-2008-0143 in the Search field.

The revised draft EA may be viewed on the regulations.gov website or in our reading room (see ADDRESSES above for a link to regulations.gov and information on the location and hours of the reading room). You may also request paper copies of the revised draft EA by calling or writing to the person listed under FOR FURTHER INFORMATION CONTACT. Please refer to the title of the draft EA when requesting copies.

The revised draft EA has been prepared in accordance with: (1) The National Environmental Policy Act of 1969 (NEPA), as amended (42 U.S.C. 4321 et seq.); (2) regulations of the Council on Environmental Quality for implementing the procedural provisions of NEPA (40 CFR parts 1500-1508); (3) U.S. Department of Agriculture regulations implementing NEPA (7 CFR part 1b); and (4) APHIS' NEPA Implementing Procedures (7 CFR part 372).

Done in Washington, DC, this 23rd day of June 2025.
Michael Watson,
Administrator, Animal and Plant Health Inspection Service.

[FR Doc. 2025-11891 Filed 6-26-25; 8:45 am]

BILLING CODE 3410-34-P